FEDERAL COMMUNICATIONS COMMISSION

[FR ID 173749]

Open Commission Meeting Thursday, September 21, 2023

September 14, 2023.

The Federal Communications Commission will hold an Open Meeting on the subjects listed below on Thursday, September 21, 2023, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Space | Title: Expediting Initial Processing of Satellite and Earth Station Applications (IB Docket No. 22-411); Space Innovation (IB Docket No. 22-271).
|  | Summary: The Commission will consider a Report and Order and Further Notice of Proposed Rulemaking on facilitating and expediting application processing for satellite and earth station operators in order to advance opportunities for innovation in the new space age.
2 | Wireline Competition | Title: Updating the 5G Fund for Rural America (GN Docket No. 20-32).
|  | Summary: The Commission will consider a Further Notice of Proposed Rulemaking on the implementation of the 5G Fund for Rural America in light of new, precise, and verified mobile coverage data gathered through the Broadband Data Collection.
3 | Wireline Competition | Title: Numbering Policies for Modern Communications (WC Docket No. 13-97); Telephone Number Requirements for IP-Enabled Service Providers (WC Docket No. 07-243); Implementation of TRACED Act Section 6(a)—Knowledge of Customers by Entities with Access to Numbering Resources (WC Docket No. 20-67); and Process Reform for Executive Branch Review of Certain FCC Applications and Petitions Involving Foreign Ownership (IB Docket No. 16-155).
|  | Summary: The Commission will consider a Report and Order to strengthen the Commission's direct access rules in order to stem the tide of illegal robocalls, protect the nation's numbering resources from abuse by foreign bad actors, and advance other important public policy objectives tied to the use of numbering resources. The accompanying Second Further Notice of Proposed Rulemaking would seek comment on the duties of existing direct access authorization holders.
4 | Media | Title: Updating Obsolete TV Broadcasting Rules (MB Docket No. 22-227).
|  | Summary: The Commission will consider a Report and Order which would amend part 73 of the Commission's Rules to update Television and Class A Television Broadcast Station Rules as well as certain rules applicable to all broadcast stations. This would ensure the FCC's rules better reflect the current broadcast TV operating environment including changes related to major developments like the transition from analog to digital-only operations and the post-incentive auction transition to a smaller television band with fewer channels.
5 | Engineering & Technology | Title: Space Launch Operations (ET Docket No. 13-115).
|  | Summary: The Commission will consider a Second Report and Order and Second Further Notice of Proposed Rulemaking that would adopt spectrum allocations and a licensing framework for commercial space launches, ensuring reliable and predictable communications services for the private companies that have an increasingly vital role in U.S. space activities.
6 | Enforcement | Title: Enforcement Bureau Action.
|  | Summary: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2023-20707 Filed 9-22-23; 8:45 am]

BILLING CODE 6712-01-P